DEPARTMENT OF ENERGY

Federal Energy Regulatory Commission

[Docket No. EG03-44-000, et al.]

Wharton County Power Partners, L.P., et al.; Electric Rate and Corporate Filings

March 14, 2003.

The following filings have been made with the Commission. The filings are listed in ascending order within each docket classification.

1. Wharton County Power Partners, L.P.

[Docket No. EG03-44-000]

Take notice that on March 11, 2003, Wharton County Power Partners, L.P. (the Applicant) filed with the Federal Energy Regulatory Commission (Commission) an application for determination of exempt wholesale generator status pursuant to section 32 of the Public Utility Holding Company Act of 1935 and part 365 of the Commission's regulations.

The Applicant is a Delaware limited partnership with its principal place of business at 1330 Lake Robbins Drive #350, The Woodlands, Texas 77380. The Applicant states that it intends to acquire, own and operate an 80 MW gas-fired electric generating facility located in Wharton County, Texas.

Comment Date: April 3, 2003.

2. Midwest Independent Transmission System Operator, Inc.

[Docket No. EL03-57-000]

Take notice that on March 11, 2003, the Midwest Independent Transmission System Operator, Inc. (Midwest ISO) submitted for filing a Request for the Waiver of Penalty Provisions of the Midwest ISO Open Access Transmission Tariff (OATT) for certain transactions occurring between the period of February 1, 2002, to March 31, 2003.

The Midwest ISO states that it has served copies of its filing on all affected customers. Midwest ISO states that it has also electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: April 10, 2003.

3. California Independent System Operator Corporation, Pacific Gas and Electric Company

[Docket Nos. ER02-250-003, ER02-527-002 and ER02-479-002]

Take notice that on March 10, 2003, the California Independent System Operator Corporation (ISO) tendered for filing a refund report in the above-identified dockets, as directed by the Commission's letter order dated December 26, 2002, and the subsequent notice granting an extension of time, issued on January 27, 2002. This filing replaces the refund report filed by ISO on March 7, 2003.

On March 12, 2003, ISO submitted a request for withdrawal of the refund report filed on March 7, 2003.

Comment Date: April 2, 2003.

4. California Power Exchange Corporation

[Docket No. ER03-139-004]

Take notice that on March 12, 2003, the California Power Exchange Corporation made a filing to comply with the Commission's February 25, 2003, order in this proceeding (102 FERC ¶ 61,208).

Comment Date: April 2, 2003.

5. Virginia Electric and Power Company

[Docket No. ER03-159-002]

Take notice that on March 12, 2003, Virginia Electric and Power Company, (Company) tendered for filing a request that the Federal Energy Regulatory Commission take action on the revised service agreement that the Company tendered for filing in Docket No. ER03-159-000 on November 5, 2002, as amended on November 13, 2002.

The Company states that copies of the filing were served upon the public utility's jurisdictional customers, Virginia State Corporation Commission and the North Carolina Utilities Commission.

Comment Date: April 2, 2003.

6. San Diego Gas & Electric Company

[Docket No. ER03-418-001]

Take notice that on March 11, 2003, San Diego Gas & Electric Company (SDG&E) tendered for filing with the Federal Energy Regulatory Commission substitute tariff sheets in the above-referenced docket. The purpose of the filing is to make technical corrections to the tariff sheets submitted on January 15, 2003.

SDG&E states that copies of this filing were served on the parties listed on the Service List for Docket No. ER03-418-001.

Comment Date: April 1, 2003.

7. Progress Energy Service Company on behalf of Progress Energy Florida, Inc.

[Docket No. ER03-425-000]

Take notice that on March 12, 2003, Progress Energy Service Company, on behalf of Progress Energy Florida, Inc., hereby withdrew its filing in the above-captioned proceeding.

Progress Energy Service Company states that copies of the filing were served upon the counterparty to the filed agreement and the relevant state commissions.

Comment Date: April 2, 2003.

8. Progress Energy, Inc.

[Docket No. ER03-441-001]

Take notice that on February 6, 2003, Progress Energy, Inc., on behalf of Carolina Power & Light Company, also known as Progress Energy Carolinas, Inc., (hereafter “Progress Carolinas”), tendered for filing an amendment to its “Notice of Withdrawal of Service Agreements” filed on January 24, 2003, in Docket No. ER03-441-000.

Progress Carolinas state that copies of this filing were served on the affected customer and affected state regulatory commissions.

Comment Date: March 24, 2003.

9. Carolina Power & Light Company, Florida Power Corporation

[Docket No. ER03-540-002]

Take notice that on March 12, 2003, Carolina Power & Light Company (CP&L), and Florida Power Corporation (FPC), tendered for filing with the Federal Energy Regulatory Commission further modifications to the credit security provisions of their Open Access Transmission Tariffs. The proposed modifications supersede the filings made on February 14, 2003, and February 24, 2003, in the above-referenced docket.

CP&L and FPC respectfully request that the OATT modifications become effective on April 15, 2003, which is 60 days after their initial filing in this docket.

CP&L and FPC state that copies of the filing were served upon the public utility's jurisdictional customers, the North Carolina Utilities Commission, the South Carolina Public Service Commission and the Florida Public Service Commission.

Comment Date: April 2, 2003.

10. Duke Energy Corporation

[Docket No. ER03-604-000]

Take notice that on March 10, 2003, Duke Energy Corporation, on behalf of Duke Electric Transmission, (collectively, Duke) tendered for filing a revised Service Agreement for Network Integration Transmission Service (NITSA) between Duke and North Carolina Electric Membership Corporation. Duke seeks an effective date for the revised NITSA of February 10, 2003.

Comment Date: March 31, 2003.

11. Wolverine Power Supply Cooperative, Inc.

[Docket No. ER03-605-000]

Take notice that on March 10, 2003, Wolverine Power Supply Cooperative, Inc. (Wolverine), tendered for filing with the Federal Energy Regulatory Commission (Commission) a Notice of Termination of Service Agreement No. 10 under Wolverine's FERC Electric Tariff, Original Vol. No. 2 and a Notice of Termination of Service Agreement No. 1 under Wolverine's FERC Electric Tariff, First Revised Vol. No. 1. The Service Agreements expired by their own terms effective September 1, 2002. Wolverine requested an effective date of September 1, 2002, for both Service Agreements.

Wolverine states that a copy of this filing has been served upon Great Lakes Energy Cooperative and the Michigan Public Service Commission.

Comment Date: March 31, 2003.

12. Wisconsin Public Service Corporation

[Docket No. ER03-606-000]

Take notice that, on March 10, 2003, Wisconsin Public Service Corporation (WPSC or the Company) tendered for filing an increase in wholesale rates under Section 205 of the Federal Power Act. This rates increase request applies to: WPSC's “W-1A” tariff and “W-2A” tariff customers who take full and partial requirements service, respectively; WPSC's Rate Schedule 51 service partial requirements service to the City of Marshfield; and to WPSC's customers who utilize the interruptible provisions of its rates. The proposed effective date of this increase is May 11, 2003.

WPSC states that a copy of the filing was served upon the affected customers and State Commissions.

Comment Date: March 31, 2003.

13. Wolverine Power Supply Cooperative, Inc.

[Docket No. ER03-607-000]

Take notice that on March 10, 2003, Wolverine Power Supply Cooperative, Inc. (Wolverine), tendered for filing an executed Facilities Agreement for Construction of a Wood-style Substation and Tap between Wolverine Power Supply Cooperative, Inc. and Great Lakes Energy Cooperative (Facilities Agreement). Wolverine requested an effective date of May 1, 2003, for the Facilities Agreement.

Wolverine states that a copy of this filing has been served upon Great Lakes Energy Cooperative and the Michigan Public Service Commission.

Comment Date: March 31, 2003.

14. California Independent System Operator Corporation

[Docket No. ER03-608-000]

Take notice that on March 11, 2003, the California Independent System Operator Corporation (ISO) tendered for filing an amendment (Amendment No. 49) to the ISO Tariff.

With this amendment the ISO seeks to resolve a number of outstanding issues regarding the transmission Access Charge methodology set forth in Amendment No. 27 to the ISO Tariff, filed March 31, 2000. The ISO also seeks to address certain issues that have arisen in the implementation of that transmission Access Charge methodology. The ISO requests that Amendment No. 49 be made effective June 1, 2003.

The ISO states that this filing has been served on the Public Utilities Commission of California, the California Energy Commission, the California Electricity Oversight Board, and all parties, including the City of Vernon, with effective Scheduling Coordinator Agreements under the ISO Tariff.

Comment Date: April 1, 2003.

15. Mid-Continent Area Power Pool

[Docket Nos. OA97-163-014, ER97-1162-012 and OA97-658-013]

Take notice that on March 10, 2003, the Mid-Continent Area Power Pool (MAPP) tendered for filing a letter informing the Federal Energy Regulatory Commission that MAPP will implement additional procedures to provide firm redispatch service in Schedule F.

Comment Date: March 31, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6937 Filed 3-21-03; 8:45 am]

BILLING CODE 6717-01-P